DEPARTMENT OF HOMELAND SECURITY

Coast Guard

33 CFR Part 100

[Docket No. USCG-2010-0346]

Annual Seattle Yacht Club's “Opening Day” Marine Parade

AGENCY: Coast Guard, DHS.

ACTION: Notice of enforcement of regulation.

SUMMARY: The Coast Guard will enforce the Special Local Regulation in Portage Bay, Portage Cut (Montlake Cut), and Union Bay, WA during the Annual Seattle Yacht Club's “Opening Day” Marine Parade from 8 a.m. through 6 p.m. on May 2, 2010. This action is necessary to ensure participant and spectator safety while preventing vessel congestion in these waterways during the parade. During the enforcement period, no spectators shall anchor, block, loiter in, or impede the transit of participants or official patrol vessels in the regulated area. Further, due to the large number of craft confined within this small body of water, all vessels, both spectator and participants will maintain a “NO WAKE” speed.

DATES: The regulations in 33 CFR 100.1304 will be enforced from 8 a.m. through 6 p.m. on May 2, 2010.

FOR FURTHER INFORMATION CONTACT: If you have questions on this notice, call or e-mail Ensign Ashley M. Wanzer, Sector Seattle Waterways Management Division, Coast Guard; telephone 206-217-6175, e-mail SectorSeattleWWM@uscg.mil.

SUPPLEMENTARY INFORMATION: The Coast Guard will enforce the Special Local Regulation for the annual Seattle Yacht Club's “Opening Day” Marine Parade in 33 CFR 100.1304 on May 2, 2010, from 8 a.m. to 6 p.m. These regulations can be found in the May 4, 1989 issue of the Federal Register (54 FR 19167).

Under the provisions of 33 CFR 100.1304, the regulated area shall be closed for the duration of the event to all vessel traffic not participating in the event and authorized by the event sponsor or Coast Guard Patrol Commander. All persons or vessels not registered with the sponsor as participants or not part of the regatta patrol are considered spectators. Spectator vessels must be at anchor within a designated spectator area or moored to a waterfront facility in a way that will not interfere with the progress of the event. The following are established as spectator areas: Northwest of the University Bridge, north of the log boom which will be placed in Union Bay, and east of Webster Point.

No spectators shall anchor, block, loiter in, or impede the through transit of participants or official patrol vessels in the regulated area during the effective dates and times unless cleared for such entry by the Patrol Commander.

Due to the large number of craft confined within this small body of water, all vessels, both spectator and participants, will maintain a “NO WAKE” speed. This requirement will be strictly enforced to preserve the safety of both life and property.

The Coast Guard may be assisted by other Federal, State, or local law enforcement agencies in enforcing this regulation.

This notice is issued under authority of 33 CFR 100.1304 and 5 U.S.C. 552(a). If the Captain of the Port determines that the regulated area need not be enforced for the full duration stated in this notice, she may use a Broadcast Notice to Mariners to grant general permission to enter the regulated area.

Dated: April 6, 2010.
Suzanne E. Englebert,
Captain, U.S. Coast Guard, Captain of the Port, Puget Sound.

[FR Doc. 2010-10310 Filed 4-30-10; 11:15 am]

BILLING CODE 9110-04-P